DEPARTMENT OF LABOR

Employment and Training Administration

[TA-W-40,610]

The Goodyear Tire & Rubber Company, East Gadsen, AL; Notice of Negative Determination Regarding Application for Reconsideration

By application of April 3, 2002, the United Steelworkers of America, AFL-CIO, CLC, Local Union No. 12L requested administrative reconsideration of the Department's negative determination regarding eligibility for workers and former workers of the subject firm to apply for Trade Adjustment Assistance (TAA). The denial notice was signed on March 4, 2002 and published in the Federal Register on March 20, 2002 (67 FR 13010).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Goodyear Tire & Rubber Company, East Gadsden, Alabama engaged in the production of passenger radial tires and light truck tires, was denied because criteria (2) was not met. Production of passenger radial tires and light truck tires at the subject plant increased from 2000 to 2001.

The request for reconsideration alleges that company wide sales of tires declined during the relevant period. The petitioner attached various news articles to illustrate declines in company sales during the relevant period.

An examination of Goodyear Tire and Rubber's 2001 Annual Report shows that the company's tire sales declined during the 2001 period over the corresponding 2000 period. Further examination of the 2001 Annual Report shows that the preponderance in the declines in company tire sales is related to lost business in foreign countries, rather than lost do mestic tire sales.

A further review of aggregate U.S. imports of radial tires shows that imports declined in the year 2001 compared to 2000. Also, the company did not import articles like or directly competitive with articles produced at the subject firm.

Thus, on further analysis, criterion (3) group eligibility requirements of section 222 of the Trade Act of 1974 also was not met. Imports of radial tires did not contribute importantly to the subject plants layoffs. Analysis of information provided indicates that any fluctuation in corporate wide sales appears related to a global slowdown, rather than imports impacting the subject plant.

Conclusion

After review of the application and investigative findings, I conclude that there has been no error or misinterpretation of the law or of the facts which would justify reconsideration of the Department of Labor's prior decision. Accordingly, the application is denied.

Signed at Washington, DC, this 3rd day of June, 2002.
Edward A. Tomchick,
Director, Division of Trade Adjustment Assistance.

[FR Doc. 02-14788 Filed 6-11-02; 8:45 am]

BILLING CODE 4510-30-P